OFFICE OF PERSONNEL MANAGEMENT

[OMB Control No. 3206-0131]

Revision of Information Collection: Combined Federal Campaign Applications

AGENCY: Office of Personnel Management.

ACTION: 60-Day notice and request for comments.

SUMMARY: In accordance with the Paperwork Reduction Act of 1995 (Pub. L. 104-13, May 22, 1995), this notice announces that the Office of Personnel Management intends to submit to the Office of Management and Budget a request for clearance to revise information collection Combined Federal Campaign Applications OMB Control No. 3206-0131, which include OPM Forms 1647 A-E. Combined Federal Campaign Eligibility Applications are used to review the eligibility of national, international, and local charitable organizations that wish to participate in the Combined Federal Campaign. The proposed revisions reflect changes in eligibility guidance from the Office of Personnel Management and recommendations from a review conducted by the Government Accountability Office.

We estimate 20,000 responses to this information collection annually. Each form takes approximately three hours to complete. The annual estimated burden is 60,000 hours.

Comments are particularly invited on: whether this information is necessary for the proper performance of functions of the Office of Personnel Management, and whether it will have practical utility; whether our estimate of the public burden of this collection of information is accurate, and based on valid assumptions and methodology; and ways in which we can minimize the burden of the collection of information on those who are to respond, through the appropriate use of technological collection techniques or other forms of information technology.

For copies of this information collection, contact Curtis Rumbaugh at curtis.rumbaugh@opm.gov. Please be sure to include a mailing address with your request.

DATES: Comments on this information collection should be received within 60 calendar days from the date of this publication.

ADDRESSES: Send or deliver comments to—Office of CFC Operations, ATTN: CFC Operations Specialist, U.S. Office of Personnel Management, 1900 E Street, NW., Room 5450, Washington, DC 20415.

U.S. Office of Personnel Management.
John Berry,
Director.

[FR Doc. E9-13142 Filed 6-4-09; 8:45 am]

BILLING CODE 6325-46-P